DEPARTMENT OF STATE

Federal Register Notice of Intent To Prepare an Environmental Assessment; Notice of Intent To Prepare an Environmental Assessment and To Conduct Scoping Meetings and Notice of Floodplain and Wetland Involvement; Enbridge Energy, Limited Partnership (Alberta Clipper Project)

AGENCY: Department of State.

ACTION: Notice of intent to prepare an Environmental Assessment (EA) and to conduct public scoping meetings. Notice of floodplain and wetlands involvement.

SUMMARY: Enbridge Energy, Limited Partnership (Enbridge) has applied to the United States Department of State for a Presidential Permit for the proposed construction, connection, operation, and maintenance at the border of the United States of facilities for the export and import of petroleum to and from a foreign country (Alberta Clipper Project). The Department of State receives and considers applications for Presidential Permits for such energy-related pipelines pursuant to authority delegated to it by the President under Executive Order 13337 of April 30, 2004 (69 FR 25299). To issue a Permit, the Department of State must find that issuance would serve the national interest. The Department intends to consult extensively with concerned Federal and State agencies on this application, and invites public comment to assist it in arriving at its determination. In accordance with Section 102(C) of the National Environmental Policy Act of 1969 (NEPA) (42 U.S.C. 4332(C)) and implementing regulations promulgated by the Council on Environmental Quality (40 CFR parts 1500-1508) and the Department of State (22 CFR part 161), including in particular 22 CFR 161.7(c)(1), the Department of State intends to prepare an environmental assessment (EA) to determine if there are any potential significant impacts and to address alternatives to the proposed action.

The purpose of this Notice of Intent is to inform the public about the proposed action, announce plans for scoping meetings, invite public participation in the scoping process, and solicit public comments for consideration in establishing the scope and content of the Alberta Clipper Project EA. As the proposed project may involve an action in a floodplain or wetland, the EA will also include a floodplain and wetlands assessment and floodplain statement of findings.

In addition, Enbridge proposes to construct an additional pipeline concurrently and within a portion of the same pipeline corridor adjacent to the Alberta Clipper Project between Clearbrook, MN and Superior, WI. This project is not subject to a Presidential Permit or other Department of State jurisdiction. However, because the two projects will be constructed in the same corridor, the Department of State will accept comments on potential issues relevant to the construction of this facility.

DATES: Department of State invites interested agencies, organizations, and members of the public to submit comments or suggestions to assist in identifying significant environmental issues and in determining the appropriate scope of the Alberta Clipper Project EA. The public scoping period starts with the publication of this Notice in the Federal Register and will continue until September 10, 2007. Written, electronic and oral comments will be given equal weight and the State will consider all comments received or postmarked by September 10, 2007 in defining the scope of the Alberta Clipper Project EA. Comments received or postmarked after that date will be considered to the extent practicable.

During this public scoping period, the Department of State plans to use the scoping process in conjunction with the Minnesota Public Utilities Commission public hearing process to help identify consulting parties and historic preservation issues for consideration under Section 106 of the National Historic Preservation Act and its implementing regulations (36 CFR part 800). Dates and locations for the public scoping meetings are:

1. August 13; 11 a.m.-2 p.m.; Kennedy; MN; VFW & Cafe; 103 5th St. E.

2. August 13; 6 p.m.-9 p.m.; Stephen; MN; Stephen Community Center; 319 5th Street.

3. August 14; 6 p.m.-9 p.m.; Thief River Falls; MN; Best Western Meeting Room; 1060 Highway 32 South.

4. August 15; 11 a.m.-2 p.m.; Oklee; MN; Oklee Community Hall; 2nd Ave. between fire hall and gas station.

5. August 15; 6 p.m.-9 p.m.; Gully; MN; Gully Community Center; 120 S. Main St.

6. August 16; 6 p.m.-9 p.m.; Clearbrook; MN; City Hall Gym; 200 Elm St. SE.

7. August 20; 11 a.m.-2 p.m.; Bemidji; MN; Holiday Inn Express Conference Center; 2422 Ridgeway Ave.

8. August 20; 6 p.m.-9 p.m.; Bemidji; MN; Holiday Inn Express Conference Center; 2422 Ridgeway Ave.

9. August 21; 11 a.m.-2 p.m.; Cass Lake; MN; Palace Casino and Hotel; 16599 69th Ave. NW.

10. August 21; 6 p.m.-9 p.m.; Cohasset; MN; Cohasset Community Center; 305 NW 1st Ave.

11. August 22; 6 p.m.-9 p.m.; Floodwood; MN; St. Louis County Fair Building; 107 W. 7th Ave.

12. August 23; 6 p.m.-9 p.m.; Carlton; MN; Black Bear Hotel; 1789 Highway 210; Lake Hall Room.

The public is encouraged to become involved in this process and provide specific comments or concerns about the proposed project. By becoming a commentator, your concerns will be addressed in the Alberta Clipper Project EA and considered by the Department of State. Your comments should focus on the potential environmental impacts, reasonable alternatives (including alternative facility sites and alternative pipeline routes), and measures to avoid or lessen environmental impacts. The more specific your comments, the more useful they will be. The public scoping meetings identified above are designed to provide another opportunity to offer comments on the proposed project. Interested individuals and groups are encouraged to attend these meetings and to present comments on the environmental issues they believe should be addressed in the Alberta Clipper EA. Again, written comments are considered with equal weight in the process relative to those received in public scoping meetings.

ADDRESSES: Written comments or suggestions on the Alberta Clipper EA and scope of environmental review should be addressed to: Elizabeth Orlando, OES/ENV Room 2657, U.S. Department of State, Washington, DC 20520. Comments may be submitted electronically to: albertaclipper@state.gov.

FOR FURTHER INFORMATION CONTACT: For information on the proposed projects or to receive a copy of the Draft Alberta Clipper EA when it is issued, contact Elizabeth Orlando at the address listed in the ADDRESSES section of this notice by electronic or regular mail as listed above, or by telephone (202) 647-4284, or by fax at (202) 647-5947.

More information on the Enbridge Alberta Clipper Project application for a Presidential Permit, including associated maps and drawings will be downloadable in its entirety from an Enbridge hosted project Web site that is being established for this purpose and will be accessible from: http://www.enbridgeUS.com/publicinfo. This Web site is expected to be operational on or about August 13, 2007. This Web site will NOT accept public comments for the record, but it will provide a link to the Department of State project e-mail address noted above. Department of State Presidential Permit information and process can be found at http://www.state.gov/e/eeb/c9986.htm.

SUPPLEMENTARY INFORMATION:

Background and Need for Agency Action

The Department of State has received an application from Enbridge Energy, Limited Partnership (“Enbridge”) for a Presidential Permit, pursuant to Executive Order 13337 of April 30, 2004, to construct, connect, operate, and maintain a 36-inch crude oil and liquid hydrocarbon pipeline at the U.S.-Canadian border at Neche, Pembina County, North Dakota, for the purpose of transporting liquid hydrocarbons and other petroleum products between the United States and Canada. Enbridge seeks this authorization in connection with its Alberta Clipper Project (“Alberta Clipper Project”), which is designed to transport Canadian crude oil from the Western Canadian Sedimentary Basin (“WCSB”) to existing refinery markets in the Midwest region of the United States. The project description set forth in this notice is based on information provided by Enbridge in its Presidential permit application.

Enbridge is planning to increase its ability to provide additional supplies of petroleum to markets in the United States in response to customer requests and marketplace demands. To fulfill this goal, Enbridge has embarked upon an expansion program to increase its transportation capacity. The Enbridge Expansion Program is specifically designed to increase petroleum transportation services from the increasingly accessible oil sands supply in the WCSB to refineries in the Midwest. Enbridge proposes to construct and operate a petroleum pipeline and related facilities from Hardisty, Alberta, Canada, to Superior, Wisconsin in the United States. The Alberta Clipper Project would have an initial capacity to deliver 450,000 barrels per day (bpd) of petroleum from an existing terminal at Hardisty, Alberta to an existing terminal in Superior, Wisconsin.

In total, the Alberta Clipper Project would consist of approximately 992 miles of new pipeline in total. The proposed system expansion would include the construction of approximately 326 miles of new 36-inch-diameter pipeline from the United States-Canada border near Neche, North Dakota to the existing Enbridge tank farm in Superior, Wisconsin for the transportation of petroleum. Enbridge proposes to construct the pipeline generally along its existing pipeline right-of-way. In Canada, the project would involve the construction of approximately 666 miles of new pipeline from Hardisty, Alberta to the United States-Canada border. Appropriate regulatory authorities in Canada will conduct an independent environmental review for the Canadian facilities.

The Alberta Clipper Project also would require modifications at existing pump stations and the construction of delivery facilities and mainline valves. Modifications of the pump stations would occur at locations necessary to maintain adequate flow through the pipeline. Mainline valves would be installed and located as dictated by the hydraulic characteristics of the transported petroleum. Enbridge proposes to begin construction of the project in November 2008. Construction would occur over approximately 14 months, with an in-service date on or before December 31, 2009.

U.S. counties that could possibly be affected by construction of the proposed pipeline are:

North Dakota: Pembina.

Minnesota: Kittson, Marshall, Pennington, Red Lake, Polk, Clearwater, Beltrami, Hubbard, Cass, Itasca, Aitkin, St. Louis, Carlton.

Wisconsin: Douglas.

The Alberta Clipper Project would be constructed within or adjacent to Enbridge's existing right-of-way between the United States-Canadian border near Neche, North Dakota and Superior, Wisconsin. Construction of the proposed pipeline would generally require a 140-foot-wide construction right-of-way to allow temporary storage of topsoil and spoil and to accommodate safe operation of construction equipment. The spoil side (i.e., topsoil and ditch spoil stockpile area) would typically be up to 50-feet feet wide and generally located within the existing maintained right-of-way. The working side (i.e., equipment work area and travel lane) would typically be 90-feet wide and mostly be located outside the existing maintained right-of-way. Following construction, Enbridge would retain right-of-way to maintain 75-feet from the current outermost pipeline.

Dated: July 23, 2007.
David Brown,
Director, Office of International Oceans, Environment and Scientific Affairs, U.S. Department of State.

[FR Doc. E7-14486 Filed 7-26-07; 8:45 am]

BILLING CODE 4710-07-P